FEDERAL COMMUNICATIONS COMMISSION

[DA 16-53]

Order Declares ACT Telecommunications, Inc.'s International Section 214 Authorization Terminated

AGENCY: Federal Communications Commission.

ACTION: Notice.

SUMMARY: In this document, the Commission declares the international section 214 authorization granted to ACT Telecommunications, Inc. (ACT) terminated given ACT's inability to comply with the express condition for holding the authorization. We also conclude that ACT failed to comply with those requirements of the Communications Act of 1934, as amended (the Act) and the Commission's rules that ensure that the Commission can contact and communicate with the authorization holder, which failures have prevented any way of addressing ACT's inability to comply with the condition of its authorization.

DATES: January 14, 2016.

FOR FURTHER INFORMATION CONTACT: Cara Grayer, Telecommunications and Analysis Division, International Bureau, at (202) 418-2960 or Cara.Grayer@fcc.gov.

SUPPLEMENTARY INFORMATION: This is a summary of the Commission's Order, DA 16-53, adopted and released January 14, 2016. On October 27, 2009, the International Bureau granted ACT an international section 214 authorization to provide global or limited global facility-based service and global or limited global resale service in accordance with section 63.18(e)(1) and 63.18(e)(2) of the Commission's rules. The International Bureau granted the application on the express condition that ACT abide by the commitments and undertakings contained in its Letter of Assurance (LOA) to the Department of Justice (DOJ) and the Department of Homeland Security (DHS, and with DOJ, the Executive Branch Agencies) dated October 20, 2009. On May 9, 2014, the Executive Branch Agencies notified the Commission of ACT's non-compliance with the conditions of its authorization and requested that the Commission terminate, and declare null and void and no longer in effect, the international section 214 authorization issued to ACT. We determine that ACT's international section 214 authorization to provide international services issued under File No. ITC-214-20081201-00519 has terminated for ACT's inability to comply with the LOA, an express condition for holding the section 214 international authorization. The International Bureau has provided ACT with notice and opportunity to respond to the allegations in the May 9, 2014 Executive Branch Letter concerning ACT's non-compliance with the condition of the grant. ACT has not responded to any of our multiple requests or requests from the Executive Branch Agencies. We find that ACT's failure to respond to our multiple requests demonstrates that it is unable to satisfy the LOA conditions concerning its 2012 and 2013 certifications, maintaining a current designated point of contact (POC), and providing timely notice of a change in ACT's POC status, upon which the Executive Branch Agencies gave their non-objection to the grant of the authorization to ACT, and which is a condition of the grant of its section 214 authorization.

Furthermore, after having received an international 214 authorization, a carrier “is responsible for the continuing accuracy of the certifications made in its application” and must promptly correct information no longer accurate, “and, in any event, within thirty (30) days.” ACT has failed to inform the Commission of any changes in its business status of providing international telecommunications services, as required by the rules. Nor is there any record of ACT having complied with section 413 of the Communications Act and the Commission's rules requiring it to designate an agent for service after receiving its authorization on October 27, 2009. Finally, as part of its authorization, ACT “must file annual international telecommunications traffic and revenue as required by section 43.62.” Section 43.62(b) states that “[n]ot later than July 31 of each year, each person or entity that holds an authorization pursuant to section 214 to provide international telecommunications service shall report whether it provided international telecommunications services during the preceding calendar year.” Our records indicate that ACT failed to file an annual international telecommunications traffic and revenue report indicating whether or not ACT provided services in 2014, as required by section 43.62(b) of the Commission's rules. In these circumstances, and in light of ACT's failure to respond to the Commission's rules designed to ensure its ability to communicate with the holder of the authorization also warrants termination wholly apart from demonstrating ACT's inability to satisfy the LOA conditions of its authorization.

By this Order, we grant the Executive Branch agencies' request to the extent set forth in this Order. A copy of this Order will be sent by return receipt requested to ACT at its last known addresses.

Further requests should be sent to Cara Grayer, Attorney, Telecommunications and Analysis Division, International Bureau via email at Cara.Grayer@fcc.gov and file it under File No. ITC-214-20081201-00519 via IBFS at http://licensing.fcc.gov/myibfs/pleading.do.

Federal Communications Commission.
Troy F. Tanner,
Deputy Chief, International Bureau.

[FR Doc. 2016-02932 Filed 2-11-16; 8:45 am]

BILLING CODE 6712-01-P